DEPARTMENT OF TRANSPORTATION

Federal Highway Administration

Notice of Final Federal Agency Actions on Proposed Highway in North Carolina

AGENCY: Federal Highway Administration (FHWA), DOT.

ACTION: Notice of Limitation on Claims for Judicial Review of Actions by FHWA and Other Federal Agencies.

SUMMARY: This notice announces action taken by the FHWA and other federal agencies that is final within the meaning of 23 U.S.C. 139(l)(1). This final agency action relates to a proposed highway project, Bonner Bridge Replacement Project along NC 12, from Rodanthe to Bodie Island in Dare County, North Carolina. The FHWA's Record of Decision (ROD) identifies the Parallel Bridge with NC 12 Transportation Management Plan as the selected alternative.

DATES: By this notice, the FHWA is advising the public of final agency actions subject to 23 U.S.C. 139(l)(1). A claim seeking judicial review of the final Federal agency actions on the highway project will be barred unless the claim is filed on or before July 10, 2011. If the Federal law that authorizes judicial review of a claim provides a time period of less than 180 days for filing such claim, then that shorter time period still applies.

FOR FURTHER INFORMATION CONTACT: Mr. Clarence W. Coleman, P. E., Director of Preconstruction and Environment, Federal Highway Administration, 310 New Bern Avenue, Suite 410, Raleigh, North Carolina 27601-1418, Telephone: (919) 747-7014; e-mail: clarence.coleman@dot.gov. FHWA North Carolina Division Office's normal business hours are 8 a.m. to 5 p.m. (Eastern Time). Mr. Gregory Thorpe, PhD, Environmental Director, North Carolina Department of Transportation (NCDOT), 1548 Mail Service Center, Raleigh, North Carolina, 27699-1548, Telephone: (919) 733-3141; e-mail: gthorpe@ncdot.gov. NCDOT's normal business hours are 8 a.m. to 5 p.m. (Eastern Time).

SUPPLEMENTARY INFORMATION: Notice is hereby given that FHWA has taken final agency action by issuing a Record of Decision (ROD) for the following highway project in the State of North Carolina: The Bonner Bridge Replacement Project along Highway NC 12, from Rodanthe to Bodie Island, in Dare County, North Carolina. The project is also known as State Transportation Improvement Program (STIP) Project B-2500. Located in the Outer Banks of North Carolina, the selected alternative will replace the deteriorating Bonner Bridge over Oregon Inlet as Phase 1 of the project and includes an NC 12 Transportation Management Plan that establishes a process for future decision-making for the section of NC 12 from Oregon Inlet to the Village of Rodanthe. The NC 12 Transportation Management Plan requires coastal monitoring and various studies of project area conditions through the year 2060 on Hatteras Island and the Plan sets forth a process for planning and implementing possible future phases of the project. The FHWA's action, related actions by other Federal agencies and the laws under which such actions were taken, are described in the Final Environmental Impact Statement (FEIS)/Final Section 4(f) Evaluation for the project, approved on September 17, 2008; the Revised Final Section 4(f) Evaluation, approved on October 9, 2009; the Environmental Assessment, approved on May 7, 2010; and the FHWA ROD issued on December 20, 2010 approving the Bonner Bridge Replacement project, and in other documents in the project file. The FEIS/Final Section 4(f) Evaluation, Revised Final Section 4(f) Evaluation, EA, ROD, are available for review by contacting the FHWA or the NCDOT at the addresses provided above. In addition, the FEIS, Revised Final Section 4(f) Evaluation, EA, and ROD can be viewed and downloaded from the project Web site at http://www.ncdot.gov/projects/bonnerbridgerepairs/. This notice applies to all final Federal agency actions and agency decisions as of the issuance date of this notice, and to all laws under which such actions or decisions were taken, including but not limited to:

1. General: National Environmental Policy Act (NEPA) [42 U.S.C. 4321-4351]; Federal-Aid Highway Act [23 U.S.C. 101 et seq.].

2. Air: Clean Air Act [42 U.S.C. 7401-7671(q)].

3. Land: Section 4(f) of the Department of Transportation Act of 1966 [49 U.S.C. 303]; Coastal Barrier Resources Act [16 U.S.C. 3501-3510].

4. Wildlife: Endangered Species Act [16 U.S.C. 1531-1544]; Marine Mammal Protection Act [16 U.S.C. 1361-1407]; Anadromous Fish Conservation Act [16 U.S.C. 757(a)-757(g)]; Fish and Wildlife Coordination Act [16 U.S.C. 661-667(d)]; Migratory Bird Treaty Act [16 U.S.C. 703-712]; Magnuson-Stevenson Fishery Conservation and Management Act [16 U.S.C. 1801 et. seq.].

5. Historic and Cultural Resources: Section 106 of the National Historic Preservation Act of 1966 [16 U.S.C. 470(f)].

6. Social and Economic: Civil Rights Act of 1964 [42 U.S.C. 2000(d)-2000(d)(1)].

7. Wetlands and Water Resources: Safe Drinking Water Act (SDWA) [42 U.S.C. 300(f)-300(j)(6)]; Emergency Wetlands Resources Act of 1986 [16 U.S.C. 3921, 3931]; Flood Disaster Protection Act [42 U.S.C. 4001-4128].

8. Executive Orders: E.O. 11514 Protection and Enhancement of Environmental Quality; E.O. 11593 Protection and Enhancement of Cultural Resources; E.O. 11988 Floodplain Management; E.O. 11990 Protection of Wetlands; E.O.13112 Invasive Species; E.O. 13287 Preserve America; E.O. 13547 Stewardship of the Ocean, Our Coasts, and the Great Lakes.

The ROD describes the environmental permitting processes that must be concluded with the U.S. Army Corps of Engineers, U.S. Coast Guard, U.S. Fish and Wildlife Service, and National Park Service before construction will begin on Phase 1 of the project. This notice does not apply to those pending environmental permitting decisions.

(Catalog of Federal Domestic Assistance Program Number 20.205, Highway Research, Planning and Construction. The regulations implementing Executive Order 12372 regarding intergovernmental consultation on Federal programs and activities apply to this program.)

Authority: 23 U.S.C. 139(l)(1).

Issued on: January 5, 2011.
John Sullivan, III,
Division Administrator, Federal Highway Administration, Raleigh, North Carolina.

[FR Doc. 2011-366 Filed 1-10-11; 8:45 am]

BILLING CODE 4910-RY-P